DEPARTMENT OF ENERGY

Federal Energy Regulatory Commission

[Docket No. CP98-150-002]

Millennium Pipeline Company, L.P; Notice Requesting Comments on Environmental Issues for a Route Variation in the City of Mount Vernon, NY on the Millennium Pipeline Project

May 24, 2002.

The staff of the Federal Energy Regulatory Commission (FERC or Commission) is requesting comments on environmental issues related to the impacts of constructing and operating the Mount Vernon Variation for the Millennium Pipeline Project (Project) proposed by Millennium Pipeline Company (Millennium) in New York.¹ The Mount Vernon Variation would substitute 0.67 mile of pipeline for about 1.2 miles of the Project in the City of Mount Vernon, New York.

¹ Millennium Pipeline Company, L.P. and Columbia Gas Transmission Corporation filed their applications with the Commission under Section 7 of the Natural Gas Act and Part 157 of the Commission's regulations.

The route was modified pursuant to the Commission's December 19, 2001 Interim Order for the Project in which the Commission asked representatives from Millennium, the City of Mount Vernon, other interested parties, and the citizens of Mount Vernon to work toward reaching an agreement on a route for the Project through Mount Vernon to an interconnection with Consolidated Edison Company of New York, Inc.'s (Con Edison) high pressure line. The parties reached an agreement about routing in Mount Vernon from the meter station at Oak Street and MacQuesten Parkway. Millennium filed a request that the Commission authorize this route, called the Mount Vernon Variation, on May 6, 2002. The modified route would change the final portion of the pipeline routing for the Project.

Most of the route variation would require in-street construction generally affecting a curb to curb area within the road right-of-way. Therefore, if you are a landowner receiving this notice, construction may occur in the street next to your property. However, along South Street, the variation would deviate from the road right-of-way so that construction across Metro North's New Haven Line railroad tracks may be completed as a bored crossing. Millennium would use the parking areas on both sides of the railroad for staging and the bore pits. Therefore, the parking lot landowners may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” addresses a number of typically asked questions, including the use of eminent domain and how to participate in the Commission's proceedings. It is available for viewing on the FERC Internet website (www.ferc.gov).

We are seeking environmental comments on the portion of the route along the Mount Vernon Variation. Your comments will be part of the environmental review of the Project that will be used by the Commission in its decision-making process to determine whether approval of this portion of the Project instead of the original route is in the public convenience and necessity.

Summary of the Mount Vernon Variation

Millennium has proposed the Mount Vernon Variation which would replace about 1.2 miles of the Project between approximate mileposts (MPs) 421.8 and 423.0. The route variation is proposed to minimize construction within the City of Mount Vernon. These facilities would transport up to 350,000 dekatherms per day of gas for shippers to Mount Vernon, New York. Millennium seeks authority to construct and operate the following facilities on the Mount Vernon Variation:

• About 0.67 mile of 24-inch-diameter pipeline in Mount Vernon, New York.

The location of the Mount Vernon Variation is shown in appendix 1. The Mount Vernon Variation would extend to the southwest along the west side of MacQuesten Parkway from the intersection with Oak Street to South Street. At this point it would turn to the southeast on South Street for about 300 feet. Near the Metro North Railroad crossing, the variation would move out of the road right-of-way and into a parking area along the south side of the road and northwest of the railroad. The railroad crossing would be completed as a bored crossing from this parking area to the parking area on the southeast side of the railroad. Therefore, about 400 feet of the variation would be constructed parallel to the South Street road right-of-way, rather than under the road surface. After the bored crossing of the railroad, the variation would continue to the southeast through the parking area to Beach Street. At Beach Street the variation would turn to the southwest again and would be installed beneath the Beach Street Road surface for a distance of about 500 feet. The variation would end at the Bronx/Mount Vernon border at a new interconnection with high pressure facilities of Con Edison.

Land Requirements and Construction Procedures

Most of the pipeline construction along the variation would be within streets. The pipe would be installed using stove-pipe construction techniques and a 35-foot-wide construction work area between the curbs. Millennium does not anticipate using any sidewalk areas. MacQuesten Parkway is a divided, 4-lane street and Millennium would use the entire west side of the divided road for construction. In-street construction on South and Beach Streets would occupy the entire road surface. The segment of the streets needed for construction would be closed to vehicle traffic which would be routed around the work area. The length of the construction segment would vary, but would typically be between 200 and 500 feet to allow for trenching, staging and welding of the pipe, and backfill. Construction would require about 2.8 acres of land for in-street construction plus about 0.74 acre needed for extra workspaces for the bored railroad crossings. All intersecting roads would be open cut. Millennium is required to restore all road surfaces immediately after backfilling the trench.

The Interim Order requires certain construction procedures that Millennium must use when constructing the Project in the City of Mount Vernon. These requirements will apply to Project construction anywhere in the City of Mount Vernon, as appropriate, including along the Mount Vernon Variation if the Commission approves this route. These requirements include:

• Preparing site-specific construction and mitigation plans;

• Providing affected parties with information about construction related issues, including construction schedules, timing, and traffic detours around construction activities;

• Providing alternate parking locations for loss of parking spaces;

• Maintaining access to businesses and residential buildings;

• Properly maintaining construction equipment to reduce air and noise pollution; and

• Having appropriate utility repair crews and materials on site at all times during construction to facilitate repairs to damaged utilities, if needed.

The Process

The National Environmental Policy Act (NEPA) requires the Commission to take into account the environmental impacts that could result from an action whenever it considers the issuance of a Certificate of Public Convenience and Necessity. NEPA also requires us to discover and address concerns the public may have about proposals. We call this “scoping”. The main goal of the scoping process is to focus the analysis on the important environmental issues. By this Notice, the Commission requests public comments on the scope of the issues related to the Mount Vernon Variation. All comments received are considered. State and local government representatives are encouraged to notify their constituents of this proposed action and encourage them to comment on their areas of concern.

To ensure your comments are considered, please carefully follow the instructions in the public participation section.

Currently Identified Environmental Issues

We have already identified several issues that we think deserve attention based on a preliminary review of the proposed facilities and the environmental information provided by Millennium along the Mount Vernon Variation. This preliminary list of issues may be changed based on your comments and our analysis.

• In-street construction would be required.

• Construction may temporarily affect traffic.

• Access to businesses and residences could be affected.

• In-street construction may affect the buried utility infrastructure.

• Construction activities are noisy.

• Public safety.

We will also evaluate possible alternatives, if any, to the Mount Vernon Variation or portions of it, and make recommendations on how to lessen or avoid impacts on the various resource areas.

Public Participation

You can make a difference by providing us with your specific comments or concerns about the project. By becoming a commentor, your concerns will be addressed and considered by the Commission. You should focus on the potential environmental effects of the Mount Vernon Variation, alternatives to the variation, and measures to avoid or lessen environmental impact. The more specific your comments, the more useful they will be. Please carefully follow these instructions to ensure that your comments are received in time and properly recorded:

• Send an original and two copies of your letter to: Ms. Magalie R. Salas, Secretary, Federal Energy Regulatory Commission, 888 First St., NE., Room 1A, Washington, DC 20426.

• Label one copy of the comments for the attention of Gas Branch 2.

• Reference Docket No. CP98-150-002.

• Mail your comments so that they will be received in Washington, DC on or before June 24, 2002.

Please note that we are continuing to experience delays in deliveries from the U.S. Postal Service. As a result, we will include all comments that we receive within a reasonable time frame in our environmental analysis of this project. However, the Commission encourages electronic filing of any comments or interventions or protests to this proceeding. See 18 CFR 385.2001(a)(1)(iii) and the instructions on the Commission's web site at http://www.ferc.gov under the “e-Filing” link and the link to the User's Guide. Before you can file comments you will need to create a free account which can be created by clicking on “Login to File” and then “New User Account.”

Becoming an Intervenor

In addition to involvement in the scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).² Only intervenors have the right to seek rehearing of the Commission's decision.

² Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional Information

Information is also available on the FERC website (www.ferc.gov) using the “RIMS” link to information in this docket number. Click on the “RIMS” link, select “Docket #” from the RIMS Menu, and follow the instructions. For assistance with access to RIMS, the RIMS helpline can be reached at (202) 208-2222. Additional information about the proposed project is also available from the Commission's Office of External Affairs at (202) 208-1088 (direct line) or you can call the FERC operator at 1-800-847-8885 and ask for External Affairs.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2222.

Magalie R. Salas,
Secretary.

[FR Doc. 02-13657 Filed 5-30-02; 8:45 am]

BILLING CODE 6717-01-P